DEPARTMENT OF AGRICULTURE

Forest Service

Angeles National Forest, California, Littlerock Reservoir Sediment Removal Project

AGENCY: Forest Service, (USDA).

ACTION: Notice of intent to prepare an Environmental Impact Statement.

SUMMARY: The USDA Forest Service (Forest Service) and the Palmdale Water District (District) will prepare a joint Environmental Impact Statement and Environmental Impact Report (EIS/EIR) for sediment removal and construction of a grade control structure at Littlerock Reservoir, in Los Angeles County, California. The District has submitted an application to the Forest Service for a special use authorization for the project. The Forest Service is the lead Federal agency for the preparation of this EIS/EIR in compliance with the National Environmental Policy Act (NEPA), and the District is the lead State of California agency for the preparation of the EIS/EIR in compliance with the California Environmental Quality Act (CEQA).

The Littlerock Dam and Reservoir are located on Littlerock Creek, on National Forest System (NFS) lands managed by the Angeles National Forest. The project is approximately 10 miles southwest of the city of Palmdale, California. The Dam and Reservoir are operated and maintained by the District, pursuant to a Forest Service special use permit. The facilities serve both flood control and municipal water storage purposes. The Reservoir also provides recreational opportunities for boating, fishing, swimming, picnicking, and off-highway vehicle riding.

The proposed action would construct a grade control structure midway between the dam and the southern end of the Reservoir; remove sediment from the Reservoir to restore original capacity; and maintain capacity by conducting annual sediment removal through the life of the authorization, until 2037.

The Forest Service and the District invite written comments on the scope of this proposed project. In addition, the lead agencies give notice of this analysis so that interested and affected individuals are aware of how they may participate and contribute to the final decision.

DATES: Comments concerning the scope of the analysis are requested by April 15, 2014. One public information and scoping meeting will be held at the Palmdale Water District, March 25, 2014, 7:00 p.m., 2029 East Avenue Q, Palmdale, CA 93550, (661) 947-4111. The Draft EIS/EIR is expected in September 2014 and the Final EIS/EIR is expected March 2015.

ADDRESSES: To submit comments on the scope of the project or potential environmental impacts, or to request a copy of the Draft or Final EIS/EIR, or to be added to the project mailing list, please write to the Forest Service/Palmdale Water District c/o Aspen Environmental Group, 5020 Chesebro Road, Suite 200, Agoura Hills, CA 91301. Email communications should be sent to LSRP@aspeneg.com, and should include name and return address. Information about the project and the environmental review process will be posted on the Internet at: http://www.palmdalewater.org/LSR.aspx.

FOR FURTHER INFORMATION CONTACT: For additional information related to the proposed project on NFS lands, contact Lorraine Gerchas, Project Manager, Forest Service, Angeles National Forest at 701 North Santa Anita Avenue, Arcadia, CA 91006; lmgerchas@fs.fed.us, 626-574-5281. For additional information related to the project on non-NFS lands, contact Mr. Matt Knudson, Assistant General Manager, Palmdale Water District, 2029 East Avenue Q, Palmdale, CA 93550, mknudson@palmdalewater.org, (661) 456-1018.

SUPPLEMENTARY INFORMATION:

Purpose and Need

The purpose of the project is to restore the Reservoir to 1992 water storage and flood control capacity, and maintain that capacity through annual sediment removal. The purpose of the grade control structure is to allow for sediment removal and maintenance of reservoir capacity, while preserving habitat for the arroyo toad (Anaxyrus californicus). The Forest Service also has a need to respond to the District's application for a special use authorization.

Proposed Action

The first component of the proposed project is construction of a grade control structure, to maintain the elevation of the reservoir bed by limiting upstream erosion. The grade control structure would be buried, with the top flush with, or slightly below, the existing reservoir bed. This mostly subterranean soil cement structure would span approximately 260 feet of channel (bank to bank) just downstream of Rocky Point. The maximum depth of the structure would be approximately 80 feet underground. The subterranean portion would extend downstream approximately 200 feet (in a downward stair-step design). Only the upper lip of the structure would be visible when the Reservoir level is lowered.

Upon completion of the grade control structure, the District would remove approximately 1,000,000 cubic yards (CY) of sediment to restore the 1992 capacity of the Reservoir. This initial removal of sediment would occur over approximately 10-15 years, between September and January each year. The final component is to remove annual accumulations of approximately 54,000 CY of sediment to maintain the capacity. Temporary annual closure of the Reservoir to public access would occur after Labor Day until seasonal water refill suspends removal efforts (estimated between mid-November and January). Excavation would occur just upstream of Littlerock Dam and extend approximately 3,700 feet upstream. The District's contractor would load sediment on a truck and transport it offsite to District-owned properties or locations accepting sediment for placement and spreading. These properties would be located within, or in close proximity to, the city of Palmdale. The District would seek reuse of the sediment on an annual basis prior to permanent disposal.

Annual restoration efforts would begin immediately following completion of sediment removal activities and would be completed prior to opening the Reservoir to public access. Disturbed areas outside the excavated portion of the Reservoir bed would be returned to pre-construction conditions or better. Native, locally collected plant material would be planted in areas where native vegetation was disturbed. At the completion of annual sediment removal activities, the District's contractor would remove all debris and repair project caused damage to existing parking areas, access roads, and travel paths.

Possible Alternatives

The Forest Service and the District have identified the following potential alternative to the proposed action:

No Action Alternative: Project activities would not occur and sediment would continue to accumulate upstream of Littlerock Dam. Reservoir capacity would be reduced by approximately 44 acre-feet annually. In the long term, Littlerock Reservoir would fill with sediment, eliminating its flood control and water storage capacity.

Alternative 1: Long-Term Closure of the Reservoir: The Reservoir would be closed to the public for 3-4 years while sediment is removed to achieve 1992 capacity. Capacity for water storage and flood control would be achieved more quickly, but would result in a longer term public closure. Once Reservoir capacity has been restored, maintenance activities, construction of the grade control structure, and short-term, seasonal closures would be the same as the Proposed Action.

Alternative 2: Slurry Excavation: Slurry and water return pipelines (each approximately 6-10 miles long) between the Reservoir and disposal quarries would be constructed to transport sediment off-site. Sediment would be disposed at exhausted quarry pits within Palmdale along Avenue T, approximately 6-miles northeast of the Reservoir. Sediment stockpile and processing, and water collection and pumping facilities would be required at the quarry site(s). The feasibility of long-term agreements with quarry operators and storage capacities of the quarries is unknown at this time. Maintenance of reservoir capacity and construction of the grade control structure would be the same as the Proposed Action.

Responsible Official

The Forest Service Responsible Official for the preparation of the EIS/EIR is Thomas A. Contreras, Forest Supervisor, Angeles National Forest, 701 N. Santa Anita Avenue, Arcadia, CA 91006.

Nature of Decision To Be Made

The Responsible Official will decide whether to permit the proposed activities on NFS lands, or an alternative to the proposed project. If approved, the Forest Supervisor will also decide what mitigation measures and monitoring will be required. The Forest Supervisor has authority to approve only the portions of the project on NFS lands.

Preliminary Issues

The EIS/EIR will present analyze the environmental impacts of the proposed project and the alternatives, and will identify mitigation measures to lessen environmental impacts. The EIS/EIR will focus on issues for which potentially significant impacts are identified, including: air quality; biological resources; cultural resources; geology and soils; hazardous materials; land use and public recreation; traffic; and water resources.

Permits or Licenses Required

The Forest Supervisor, Angeles National Forest, would issue a Special Use Authorization for the proposed action or an alternative. Additional permits that may be required include: a Permit to Operate issued by the Antelope Valley Air Quality Management District, a National Pollutant Discharge Elimination System General Construction Permit issued by the Lahontan Regional Water Quality Control Board, a Section 404 Permit and Section 401 Certification (per the Clean Water Act) issued by the U.S. Army Corps of Engineers, Section 2081 Incidental Take Permit issued by the California Department of Fish and Wildlife, and a Streambed Alteration Agreement (Section 1602 and 1605 permits of the California Fish and Game Code) issued by the California Department of Fish and Wildlife. Local traffic control and encroachment permits may be required from the Los Angeles County Department of Public Works or the California Department of Transportation.

Comment Requested

This notice initiates the scoping process which guides the development of the EIS/EIR. The Forest Service and the District are seeking public and agency comment on the proposed project to identify major issues to be analyzed in depth and assistance in identifying potential alternatives to be evaluated.

The proposed project implements the 2006 Angeles National Forest Land Management Plan, and is subject to project level, pre-decisional administrative review pursuant to 36 CFR 218, Subparts A and B. Comments received on this notice or in subsequent environmental reviews, including names and addresses of those who comment, will be considered as part of the public record on this proposed project, and will be available for public inspection. Comments submitted anonymously will be accepted and considered; however, those who submit anonymous comments will not have standing to object to the subsequent decision. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality. Where the request is denied, the agency will return the submission and notify the requester that the comments may be resubmitted, without names and addresses, within a specified number of days.

Early Notice of Importance of Public Participation in Subsequent Environmental Review: A Draft EIS/EIR will be prepared for comment. The comment period on the draft EIS/EIR will be 45 days from the date the Environmental Protection Agency publishes the notice of availability in the Federal Register.

The Forest Service believes, at this early stage, it is important to give reviewers notice of several court rulings related to public participation in the environmental review process. First, reviewers of the Draft EIS/EIR must structure their participation in the environmental review of the proposal so that it is meaningful and alerts an agency to the reviewer's position and contentions. Vermont Yankee Nuclear Power Corp. v. NRDC, 435 U.S. 519, 553 (1978). Also, environmental objections that could be raised at the Draft EIS/EIR stage but that are not raised until after completion of the Final EIS/EIR may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day EIS/EIR comment period so that substantive comments and objections are made available to the Forest Service at a time when it can meaningfully consider them and respond to them in the Final EIS/EIRS.

To assist the Forest Service in identifying issues and concerns on the proposed action, comments should be as specific as possible. Comments may also address the adequacy of the Draft EIS/EIR or the merits of the alternatives discussed in the statement. Reviewers may wish to refer to the Council on Environmental Quality Regulations for implementing the procedural provisions of NEPA (40 CFR 1503.3) in addressing these points.

Authority: 40 CFR 1501.7 and 1508.22; Forest Service Handbook 1909.15, Section 22.

Dated: March 12, 2014.
Thomas A. Contreras,
Forest Supervisor.

[FR Doc. 2014-06011 Filed 3-18-14; 8:45 am]

BILLING CODE 3410-11-P